ENVIRONMENTAL PROTECTION AGENCY

[FRL OP-OFA-012]

Environmental Impact Statements; Notice of Availability

Responsible Agency: Office of Federal Activities, General Information 202-564-5632 or https://www.epa.gov/nepa.

Weekly receipt of Environmental Impact Statements (EIS)

Filed April 4, 2022 10 a.m. EST Through April 11, 2022 10 a.m. EST

Pursuant to 40 CFR 1506.9.

Notice

Section 309(a) of the Clean Air Act requires that EPA make public its comments on EISs issued by other Federal agencies. EPA's comment letters on EISs are available at: https://cdxnodengn.epa.gov/cdx-enepa-public/action/eis/search.

EIS No. 20220049, Final, FHWA, NY, Interstate 81 Viaduct Project, Review Period Ends: 05/16/2022, Contact: Richard J. Marquis 518-431-4127.

EIS No. 20220050, Final, FERC, LA, Hackberry Storage Project, Review Period Ends: 05/16/2022, Contact: Office of External Affairs 866-208-3372.

EIS No. 20220051, Draft Supplement, USACE, LA, West Shore Lake Pontchartrain Hurricane and Storm Damage Risk Reduction Study, Comment Period Ends: 05/31/2022, Contact: Landon D. Parr 504-862-1908.

EIS No. 20220052, Draft, FHWA, IN, Mid-States Corridor Tier 1, Comment Period Ends: 05/31/2022, Contact: Michelle Allen 317-226-7344.

EIS No. 20220053, Final, MARAD, CA, Port of Long Beach Pier B On-Dock Rail Support Project, Contact: Alan J. Finio 202-366-8024.

Under 49 U.S.C. 304a(b), MARAD has issued a single document that consists of a final environmental impact statement (FEIS) and record of decision (ROD). Therefore, the 30-day wait/review period under NEPA does not apply to this action.

Amended Notice

EIS No. 20220021, Draft, USFS, AK, Mendenhall Glacier Visitor Facility Improvements, Comment Period Ends: 05/09/2022, Contact: Monique Nelson 907-209-4090. Revision to FR Notice Published 03/04/2022; Extending the Comment Period from 04/18/2022 to 05/09/2022.

EIS No. 20220035, Draft, NOAA, OR, Western Oregon State Forests Habitat Conservation Plan, Comment Period Ends: 06/01/2022, Contact: Michelle McMullin 541-957-3378. Revision to FR Notice Published 03/18/2022; Extending the Comment Period from 05/17/2022 to 06/01/2022.

Dated: April 11, 2022.
Cindy S. Barger,
Director, NEPA Compliance Division, Office of Federal Activities.

[FR Doc. 2022-08096 Filed 4-14-22; 8:45 am]

BILLING CODE 6560-50-P